DEPARTMENT OF THE INTERIOR

Fish and Wildlife Service

Draft Comprehensive Conservation Plan and Environmental Assessment for the Detroit River International Wildlife Refuge (IWR), Wayne and Monroe Counties, MI

AGENCY: Fish and Wildlife Service, Interior.

ACTION: Notice of availability.

SUMMARY: The U.S. Fish and Wildlife Service announces that the Draft Comprehensive Conservation Plan (CCP) and Environmental Assessment (EA) is available for Detroit River IWR, Michigan.

The CCP was prepared pursuant to the National Wildlife Refuge System Administration Act of 1966, as amended by the National Wildlife Refuge System Improvement Act of 1997, and the National Environmental Policy Act of 1969. Goals and objectives in the CCP describe how the agency intends to manage the Refuge over the next 15 years.

DATES: Written comments on the Draft CCP and EA must be received by close of business, July 23, 2004.

ADDRESSES: To request a copy of the plan or to submit comments on the plan you may use one of the following methods:

1. You may write to: U.S. Fish and Wildlife Service, Branch of Conservation Planning, BHW Federal Building, 1 Federal Drive, Ft. Snelling, Minnesota 55111-4056.

2. Go to the Refuge Web site: http://midwest.fws.gov/planning/detroitriver/index.html.

3. E-mail us at: r3planning@fws.gov.

FOR FURTHER INFORMATION CONTACT: Gary Muehlenhardt at 612/713-5477.

SUPPLEMENTARY INFORMATION: The approved boundary of the Detroit River IWR is located along 48 miles of the lower Detroit River and Michigan's Lake Erie shoreline to the Ohio state border. The Refuge was established by legislation in December 2001 and expanded in May 2003. Refuge land ownership is currently small and limited to several islands in the Detroit River and two coastal parcels in Monroe County. The key biological focus of the refuge is protecting and enhancing remnant coastal wetlands and island habitats for the benefit of migratory birds; especially diving waterfowl.

The planning process for this CCP began in April 2002. A series of open house events, meetings, and workshops were held in local communities throughout the following year.

The EA evaluates three different approaches, or alternatives, to future management and growth of the Detroit River IWR. Alternative C, Leading through Partnerships, is the agency's preferred alternative. Under this alternative, the Detroit River IWR would seek to serve as a focal point for the many ongoing conservation efforts on the Detroit River and surrounding watersheds. The Service would continue to direct habitat protection efforts but with an emphasis on cooperative management instead of fee ownership. The refuge land base would grow primarily through management agreements with private industry and government agencies.

The CCP also identifies wildlife-dependent recreational opportunities available to the public, including hunting, fishing, wildlife observation and photography, and environmental education and interpretation. Wildlife-dependent recreational uses would be encouraged on future refuge-owned lands where it is safe and appropriate.

Dated: December 24, 2003.
Gerry Jackson,
Acting Regional Director.

Editorial Note: This document was received at the Office of the Federal Register on June 10, 2004.

[FR Doc. 04-13569 Filed 6-15-04; 8:45 am]

BILLING CODE 4310-55-P